FEDERAL MARITIME COMMISSION

Meetings; Sunshine Act

Agency Holding the Meeting: Federal Maritime Commission.

Federal Register Citation of Previous Announcement: 73 FR 75435.

Previously Announced Time and Date of the Meeting: 10 a.m. on December 17, 2008.

Change: 1. The withdrawal of Item 2 to the Closed Session of the Meeting.

Item 2—Staff Briefing Regarding Global Economic Downturn and Potential Impact on Stakeholders—Possible Update.

Contact Person for More Information: Karen V. Gregory, Secretary, (202) 523-5725.

Karen V. Gregory,
Secretary.

[FR Doc. E8-30435 Filed 12-18-08; 11:15 am]

BILLING CODE 6730-01-P